DEPARTMENT OF ENERGY

Federal Energy Regulatory Commission

[Docket No. AD10-5-000]

RTO/ISO Performance Metrics; Notice Requesting Comments on RTO/ISO Performance Metrics

February 3, 2010.

In September 2008, the United States Government Accountability Office (GAO) issued a report titled “Electricity Restructuring: FERC Could Take Additional Steps to Analyze Regional Transmission Organizations' Benefits and Performance,” GAO-08-987. This report recommends that the Chairman of the Federal Energy Regulatory Commission (Commission or FERC), among other actions, work with regional transmission organizations (RTO), Independent System Operators (ISO), stakeholders and other experts to develop standardized measures that track the performance of RTO/ISO operations and markets and report the performance results to Congress and the public annually, while also providing interpretation of (1) what the measures and reported performance communicate about the benefits of RTOs and, where appropriate, (2) changes that need to be made to address any performance concerns.

As recommended by GAO, Commission staff has worked with a team comprised of staff from all the jurisdictional ISOs/RTOs to develop a set of performance metrics that the ISOs/RTOs will use to report annually to the Commission. Commission staff and representatives from the ISOs/RTOs have also met with interested stakeholders to solicit their perspectives and comments on the proposed performance metrics.

Commission staff requests comments on whether the proposed performance metrics will effectively track the performance of ISO/RTO operations and markets. Comments must be filed on or before March 5, 2010. Reply comments must be filed on or before March 19, 2010.

Addresses: Parties may submit comments, identified by Docket No. AD10-5-000, by one of the following methods.

Agency Web site: http://www.ferc.gov/. Follow the instructions for submitting comments via the eFiling link found under the “Documents and Filing” tab.

Mail: Commenters unable to file comments electronically must mail or hand deliver an original and 14 copies of their comments to: Federal Energy Regulatory Commission, Secretary of the Commission, 888 First Street, NE., Washington, DC 20426.

For further information contact:

Jeffrey Hitchings, Office of Energy Market Regulation, Federal Energy Regulatory Commission, 888 First Street, NE., Washington, DC 20426. Telephone: (202) 502-6042, E-mail: jeffrey.hitchings@ferc.gov. or

Lisa Luftig, Office of the General Counsel—Energy Markets, Federal Energy Regulatory Commission, 888 First Street, NE., Washington, DC 20426. Telephone: (202) 502-6791, E-mail: lisa.luftig@ferc.gov.

Nathaniel J. Davis, Sr.,
Deputy Secretary.

[FR Doc. 2010-3316 Filed 2-19-10; 8:45 am]

BILLING CODE 6717-01-P